DEPARTMENT OF AGRICULTURE

Animal and Plant Health Inspection Service

[Docket No. APHIS-2022-0077]

Notice of Request for Approval of an Information Collection; National Animal Health Monitoring System; Sheep 2024 Study

AGENCY: Animal and Plant Health Inspection Service, USDA.

ACTION: New information collection; comment request.

SUMMARY: In accordance with the Paperwork Reduction Act of 1995, this notice announces the Animal and Plant Health Inspection Service's intention to request approval of a new information collection to conduct the National Animal Health Monitoring System's Sheep 2024 Study.

DATES: We will consider all comments that we receive on or before March 14, 2023.

ADDRESSES: You may submit comments by either of the following methods:

• Federal eRulemaking Portal: Go to www.regulations.gov. Enter APHIS-2022-0077 in the Search field. Select the Documents tab, then select the Comment button in the list of documents.

• Postal Mail/Commercial Delivery: Send your comment to Docket No., APHIS-2022-0077, Regulatory Analysis and Development, PPD, APHIS, Station 3A-03.8, 4700 River Road Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Sheep 2024 Study, contact Ms. Nia Washington-Plaskett, Program Analyst, Center for Epidemiology and Animal Health, VS, APHIS, 2150 Centre Avenue, Bldg. B, Fort Collins, CO 80524; (866) 907-8190; email: nia.washington-plaskett@usda.gov or vs.sp.ceah.pci@usda.gov. For more detailed information on the information collection process, contact Mr. Joseph Moxey, APHIS' Paperwork Reduction Act Coordinator, at (301) 851-2483; email: joseph.moxey@usda.gov.

SUPPLEMENTARY INFORMATION: Title: National Animal Health Monitoring System; Sheep 2024 Study.

OMB Control Number: 0579-XXXX.

Type of Request: Approval of a new information collection.

Abstract: Under the Animal Health Protection Act (7 U.S.C. 8301 et seq.), the Secretary of Agriculture is authorized to protect the health of the livestock, poultry, and aquaculture populations in the United States by preventing the introduction and interstate spread of serious diseases and pests of livestock and for eradicating such diseases from the United States when feasible. This authority has been delegated to the Animal and Plant Health Inspection Service (APHIS).

In connection with this mission, APHIS operates the National Animal Health Monitoring System (NAHMS), which collects, on a national basis, statistically valid and scientifically sound data on the prevalence and economic importance of livestock, poultry, and aquaculture disease risk factors.

NAHMS' studies have evolved into a collaborative industry and government initiative to help determine the most effective means of preventing and controlling diseases of livestock. APHIS is the only agency responsible for collecting data on livestock health. Participation in any NAHMS study is voluntary, and all data are confidential.

APHIS plans to conduct the Sheep 2024 Study as part of an ongoing series of NAHMS studies on the U.S. livestock population. This study will support the following objectives: (1) Describe management and biosecurity practices associated with, and producer-reported occurrence of, common economically important disease in sheep; (2) describe antimicrobial stewardship on sheep operations and estimate the prevalence of enteric pathogens and antimicrobial resistance patterns; (3) describe management practices producers use to control internal parasites and reduce anthelmintic resistance; (4) describe changes in animal health, nutrition, and management practices in the U.S. sheep industry from 1996 to 2024; and (5) provide a serologic bank to meet the future research needs of the sheep industry.

The study will consist of two phases. In phase I, a National Agricultural Statistics Service (NASS) enumerator will contact and conduct interviews with producers with 1 or more ewes in the top 24 sheep producing States. Respondents will be asked to consent to allowing NASS to present their names to APHIS-designated data collectors for further consideration in the study. Phase II (APHIS phase) will consist of completing the producer agreement and on-farm questionnaires. In addition, biologic sampling will be available to selected participants who complete the initial visit questionnaire.

The information collected through the Sheep 2024 Study will be analyzed and organized into descriptive reports and interactive dashboards. Several information sheets will be derived from these reports and disseminated by APHIS to producers, stakeholders, academia, veterinarians, and other interested parties. The collected data will be used to: (1) Establish national and regional production measures for producer, veterinary, and industry references; (2) predict or detect national and regional trends in disease emergence and movement; (3) address emerging issues; (4) examine the economic impact of health management practices; (5) provide estimates of both outcome (disease or other parameters) and exposure (risks and components) variables that can be used in analytic studies in the future by APHIS; (6) provide input into the design of surveillance systems for specific diseases; and (7) provide parameters for animal disease spread models.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.69 hours per response.

Respondents: Sheep producers with 1 or more ewes in the top 24 sheep-producing States.

Estimated annual number of respondents: 4,970.

Estimated annual number of responses per respondent: 2.4.

Estimated annual number of responses: 12,153.

Estimated total annual burden on respondents: 8,383 hours. (Due to averaging, the total annual burden hours may not equal the product of the annual number of responses multiplied by the reporting burden per response.)

All responses to this notice will be summarized and included in the request for OMB approval. All comments will also become a matter of public record.

Done in Washington, DC, this 10th day of January 2023.
Anthony Shea,
Administrator, Animal and Plant Health Inspection Service.

[FR Doc. 2023-00631 Filed 1-12-23; 8:45 am]

BILLING CODE 3410-34-P